DEPARTMENT OF HEALTH AND HUMAN SERVICES

National Institutes of Health

National Institute of Nursing Research; Amended Notice of Meeting

Notice is hereby given of a change in the meeting of the National Institute of Nursing Research Special Emphasis Panel, October 17, 2008, 10 a.m. to October 17, 2008, 12 p.m. Bethesda Marriott, 5151 Pooks Hill Road, Bethesda, MD, 20814 which was published in the Federal Register on September 8, 2008, FR Doc. E8-20642.

Time change from 10 a.m.-12 p.m. to 8 a.m.-9:30 a.m. The meeting is closed to the public.

Dated: October 1, 2008.
Jennifer Spaeth,
Director, Office of Federal Advisory Committee Policy.

[FR Doc. E8-23781 Filed 10-8-08; 8:45 am]

BILLING CODE 4140-01-M